DEPARTMENT OF LABOR

Employment and Training Administration

20 CFR Part 655

Wage and Hour Division

29 CFR Part 501

Announcement of Public Briefings on the Changes to the Labor Certification Process for the Temporary Agricultural Employment of H-2A Aliens in the United States

AGENCIES: Employment and Training Administration and Wage and Hour Division; Department of Labor.

ACTION: Notice of meeting.

SUMMARY: On February 12, 2010, the Department of Labor (the Department or DOL) amended the H-2A regulations at 20 CFR part 655 governing the certification of temporary employment of nonimmigrant workers in temporary or seasonal agricultural employment. See, Temporary Agricultural Employment of H-2A Aliens in the United States, Final Rule, 75 FR 6884, Feb. 12, 2010 (the Final Rule). The Department's Final Rule also amended the regulations at 29 CFR part 501 to provide for enhanced enforcement under the H-2A program requirements when employers fail to meet their obligations under the H-2A program. The Department has also made changes to the Application for Temporary Employment Certification, ETA Form 9142.

The Final Rule will become effective on March 15, 2010. All H-2A program users will be required to file their applications under the new regulations, and to comply with all applicable program requirements.

The Department is issuing this notice to announce that it has scheduled three public briefings to educate stakeholders, program users, and other interested members of the public on changes to the H-2A program made by the Final Rule and on applying for H-2A temporary labor certifications under the new regulations using the ETA Form 9142.

As currently planned, the three briefings will take place in late February and early March of 2010 in San Diego, California; Dallas, Texas; and Raleigh, North Carolina. This notice provides the public with locations, dates, and registration information regarding the briefings. These briefings are subject to change and/or cancellation without further notice in the Federal Register. However, the Department will notify registered participants of any changes to the briefings.

DATES:

1. Tuesday, February 23, 2010, San Diego, California.

Time: 8:30 a.m.-3 p.m.

2. Thursday, February 25, 2010, Dallas, Texas.

Time: 8:30 a.m.-3 p.m.

3. Tuesday, March 2, 2010, Raleigh, North Carolina.

Time: 8:30 a.m.-3 p.m.

ADDRESSES: The meeting locations are:

1. San Diego—San Diego Marriott Hotel and Marina, 333 West Harbor Drive, San Diego CA 92101, Tel: 1-619-234-1500, fax: 1-619-234-8678.

2. Dallas—Anatole Hilton, 2201 Stemmons Freeway, Dallas, TX 75207, Tel: 1-214-748-1200, fax: 1-214-761-7520.

3. Raleigh—Hilton North Raleigh, 3415 Wake Forest Road, Raleigh, NC 27609, Tel: 1-919-872-2323, fax: 1-919-876-0890.

To Register: To register for a briefing session please complete the registration process on-line, by visiting www.acclaroresearch.com/oflcbriefings. Due to space considerations, attendance will be limited to those who register online. In the event of cancellation or change, participants will be notified.

FOR FURTHER INFORMATION CONTACT: For further information regarding the Employment and Training Administration's portion of the briefings, contact William L. Carlson, PhD, Administrator, Office of Foreign Labor Certification, Employment and Training Administration, 200 Constitution Avenue, NW., Room C-4312, Washington, DC 20210; Telephone: (202) 693-3010 (this is not a toll-free number).

For further information regarding the Wage and Hour Division's portion of the briefings, contact James Kessler, Farm Labor Branch Chief, Wage and Hour Division, U.S. Department of Labor, 200 Constitution Avenue, NW., Room S-3510, Washington, DC 20210; Telephone (202) 693-0070 (this is not a toll-free number). Please do not call these offices to register as they cannot accept registrations.

SUPPLEMENTARY INFORMATION: The registration information should be used by any member of the public planning to attend a briefing session.

Signed in Washington, DC, this 16th day of February 2010.
Jane Oates,
Assistant Secretary, Employment and Training Administration.
Nancy Leppink,
Deputy Administrator, Wage and Hour Division.

[FR Doc. 2010-3282 Filed 2-16-10; 4:15 pm]

BILLING CODE 4510-FP-P